DEPARTMENT OF ENERGY

Federal Energy Regulatory Commission

Combined Notice of Filings

Take notice that the Commission has received the following Natural Gas Pipeline Rate and Refund Report filings:

Filings Instituting Proceedings

Docket Numbers: CP23-5-000.

Applicants: Northern Indiana Public Service Company, LLC.

Description: Application of Northern Indiana Public Service Company LLC for a Limited Jurisdiction Certificate of Public Convenience and Necessity.

Filed Date: 10/19/2022.

Accession Number: 20221019-5122.

Comment Date: 5 p.m. ET 11/9/22.

Docket Numbers: RP23-44-000.

Applicants: Southern LNG Company, L.L.C.

Description: § 4(d) Rate Filing: SLNG Electric Power Cost Adjustment—2022 to be effective 12/1/2022.

Filed Date: 10/19/22.

Accession Number: 20221019-5048.

Comment Date: 5 p.m. ET 10/31/22.

Docket Numbers: RP23-45-000.

Applicants: Iroquois Gas Transmission System, L.P.

Description: § 4(d) Rate Filing: 10.20.22 Negotiated Rates—Twin Eagle Resource Management, LLC R-7300-25 to be effective 11/1/2022.

Filed Date: 10/20/22.

Accession Number: 20221020-5016.

Comment Date: 5 p.m. ET 11/1/22.

Docket Numbers: RP23-46-000.

Applicants: Iroquois Gas Transmission System, L.P.

Description: § 4(d) Rate Filing: 10.20.22 Negotiated Rates—Twin Eagle Resource Management LLC R-7300-26 to be effective 11/1/2022.

Filed Date: 10/20/22.

Accession Number: 20221020-5017.

Comment Date: 5 p.m. ET 11/1/22.

Docket Numbers: RP23-47-000.

Applicants: Iroquois Gas Transmission System, L.P.

Description: § 4(d) Rate Filing: 10.20.22 Negotiated Rates—Shell Energy North America (US), L.P. R-2170-20 to be effective 11/1/2022.

Filed Date: 10/20/22.

Accession Number: 20221020-5020.

Comment Date: 5 p.m. ET 11/1/22.

Docket Numbers: RP23-48-000.

Applicants: Iroquois Gas Transmission System, L.P.

Description: § 4(d) Rate Filing: 10.20.22 Negotiated Rates—Shell Energy North America (US), L.P. R-2170-21 to be effective 11/1/2022.

Filed Date: 10/20/22.

Accession Number: 20221020-5023.

Comment Date: 5 p.m. ET 11/1/22.

Docket Numbers: RP23-49-000.

Applicants: Iroquois Gas Transmission System, L.P.

Description: § 4(d) Rate Filing: 10.20.22 Negotiated Rates—Mercuria Energy America, LLC R-7540-23 to be effective 11/1/2022.

Filed Date: 10/20/22.

Accession Number: 20221020-5026.

Comment Date: 5 p.m. ET 11/1/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR22-65-001.

Applicants: Midland-Permian Pipeline LLC.

Description: § 284.123 Rate Filing: Midland-Permian Pipeline LLC Amended Statement of Operating Conditions to be effective 9/14/2022.

Filed Date: 10/19/22.

Accession Number: 20221019-5117.

Comment Date: 5 p.m. ET 11/2/22.

Docket Numbers: RP22-1065-000.

Applicants: Iroquois Gas Transmission System, L.P.

Description: Refund Report: 10.20.22 Stipulation and Settlement Agreement Refund Report to be effective N/A.

Filed Date: 10/20/22.

Accession Number: 20221020-5067.

Comment Date: 5 p.m. ET 11/1/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2022.
Kimberly D. Bose,
Secretary.

[FR Doc. 2022-23292 Filed 10-25-22; 8:45 am]

BILLING CODE 6717-01-P